DEPARTMENT OF HEALTH AND HUMAN SERVICES

Centers for Medicare & Medicaid Services

Privacy Act of 1974; Matching Program

AGENCY: Centers for Medicare & Medicaid Services, Department of Health and Human Services.

ACTION: Notice of a new matching program.

SUMMARY: In accordance with the Privacy Act of 1974, as amended, the Department of Health and Human Services (HHS), Centers for Medicare & Medicaid Services (CMS) is providing notice of a re-established matching program between CMS and the Social Security Administration (SSA), “Determining Enrollment or Eligibility for Insurance Affordability Programs Under the Patient Protection and Affordable Care Act (ACA).” The matching program provides CMS with SSA data to use in determining individuals' eligibility to enroll in a qualified health plan through an exchange established under the ACA and for insurance affordability programs and certificates of exemption, and to make eligibility redeterminations and renewals, including appeal determinations.

DATES: The deadline for comments on this notice is September 6, 2018. The re-established matching program will commence not sooner than 30 days after publication of this notice, provided no comments are received that warrant a change to this notice. The matching program will be conducted for an initial term of 18 months (from approximately September 2018 to March 2020) and within 3 months of expiration may be renewed for one additional year if the parties make no change to the matching program and certify that the program has been conducted in compliance with the matching agreement.

ADDRESSES: Interested parties may submit written comments on this notice, by mail or email, to the CMS Privacy Officer, Division of Security, Privacy Policy & Governance, Information Security & Privacy Group, Office of Information Technology, Centers for Medicare & Medicaid Services, Location: N1-14-56, 7500 Security Blvd., Baltimore, MD 21244-1850, Walter.Stone@cms.hhs.gov.

FOR FURTHER INFORMATION CONTACT: If you have questions about the matching program, you may contact Jack Lavelle, Senior Advisor, Marketplace Eligibility and Enrollment Group, Centers for Consumer Information and Insurance Oversight, CMS, at (410) 786-0639, or by email at Jack.Lavelle1@cms.hhs.gov, or by mail at 7501 Wisconsin Ave., Bethesda, MD 20814.

SUPPLEMENTARY INFORMATION: The Privacy Act of 1974, as amended (5 U.S.C. 552a) provides certain protections for individuals applying for and receiving Federal benefits. The law governs the use of computer matching by Federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient Federal agency, provided to Congress and the Office of Management and Budget (OMB), and made available to the public, as required by 5 United States Code (U.S.C.) 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o)(2)(A)(i), (r), and (u)(3)(D).

5. Publish advance notice of the matching program in the Federal Register as required by 5 U.S.C. 552a(e)(12).

This matching program meets these requirements.

Dated: August 1, 2018.
Walter Stone,
CMS Privacy Act Officer, Division of Security Privacy Policy and Governance, Information Security and Privacy Group, Office of Information Technology, Centers for Medicare & Medicaid Services.

PARTICIPATING AGENCIES

Department of Health and Human Services (HHS), Centers for Medicare & Medicaid Services (CMS) is the recipient agency, and the Social Security Administration (SSA) is the source agency.

AUTHORITY FOR CONDUCTING THE MATCHING PROGRAM:

The matching program is authorized under 42 U.S.C. 18001.

PURPOSE(S):

The purpose of the matching program is to provide CMS with SSA data that CMS needs to determine individuals' eligibility to enroll in a qualified health plan through an exchange established under the ACA and for insurance affordability programs and certificates of exemption, and to make eligibility redetermination and renewal decisions, including appeal determinations. The program enables CMS to compare its data to SSA data to confirm an applicant's or other relevant individual's identity, citizenship, status as deceased or imprisoned, and Title II disability benefit quarters of coverage (QC) and monthly and annual income. The data is used by CMS to authenticate identity, determine eligibility, and determine the amount of an advance payment of the premium tax credit (APTC) or cost sharing reduction (CSR).

CATEGORIES OF INDIVIDUALS:

The categories of individuals whose information is involved in the matching program are consumers who apply for any of the following eligibility determinations, and other relevant individuals (e.g., an applicant's household members) who have eligibility to enroll in a qualified health plan through an exchange established under the ACA, eligibility for insurance affordability programs and certificates of exemption, and subsequent eligibility redeterminations and renewals, including appeal determinations.

CATEGORIES OF RECORDS:

The categories of records used in the matching program are identity, citizenship, birth, death, disability coverage and income, and imprisonment status records. The data elements are as follows:

1. For each applicant and for relevant individuals, CMS will submit a request file to SSA that contains the following mandatory specified data elements in a fixed record format: Last name, first name, date of birth, social security number (SSN), and citizenship indicator.

2. For each applicant, SSA will provide CMS with a response file in a fixed record format. Depending on CMS' request, SSA's response may include the following data elements: Last name, first name, date of birth, death indicator, disability indicator, prisoner information, Title II (annual and monthly) income information, and confirmation of attestations of citizenship status and SSN. SSA may also provide QC data when CMS requests it.

3. For relevant individuals, CMS will request a limited amount of SSA information. Based on CMS' request, SSA will verify a relevant individual's SSN with a death indicator and may provide a relevant individual's QC data or Title II (annual and monthly) income information. CMS will not request citizenship or immigration status data for a relevant individual.

4. For renewals and redeterminations, CMS will request and SSA will verify SSN with a death indicator, disclose Title II income information, and provide the disability indicator.

5. For self-reported redeterminations, CMS will provide SSA with the following: Updated or new information reported by the enrollee or enrolled individual, last name, first name, date of birth, and SSN. Depending on CMS' request, SSA's response will include each of the following data elements that are relevant and responsive to CMS' request: Last name, first name, date of birth, death indicator, disability indicator, prisoner information, Title II (annual and monthly) income information, and confirmation of new attestations of citizenship status, verification of SSN, and QC data.

6. For individuals seeking an exemption, CMS will provide last name, first name, date of birth, citizenship indicator, and SSN to SSA. SSA will provide CMS with a response including: Last name, first name, date of birth, confirmation of attestations of citizenship status, verification of SSN, death indicator, disability indicator, prisoner information, and Title II (annual and monthly) income information.

SYSTEM(S) OF RECORDS:

The records used in this matching program are disclosed from the following systems of records, as authorized by routine uses published in the System of Records Notices (SORNs) cited below:

CMS System of Records:

☐ The CMS SOR that supports this matching program is the “CMS Health Insurance Exchanges System (HIX)”, CMS System No. 09-70-0560, last published in full at 78 FR 63211 (October 23, 2013), as amended at 83 FR 6591 (February 14, 2018).

SSA Systems of Records:

☐ Master Files of SSN Holders and SSN Applications, 60-0058, 75 FR 82121 (Dec. 29, 2010), as amended at 78 FR 40542 (July 5, 2013), and 79 FR 8780 (Feb. 13, 2014);

☐ Prisoner Update Processing System (PUPS), 60-0269, 64 FR 11076 (Mar. 8, 1999), as amended at 72 FR 69723 (Dec. 10, 2007) and 78 FR 40542 (July 5, 2013);

☐ Master Beneficiary Record, 60-0090, 71 FR 1826 (Jan. 1, 2006), as amended at 72 FR 69723 (Dec. 10, 2007) and 78 FR 40542 (July 5, 2013); and

☐ Earnings Recording and Self-Employment Income System, 60-0059, 71 FR 1819 (Jan. 11, 2006), as amended at 78 FR 40542 (July 5, 2013).

[FR Doc. 2018-16821 Filed 8-6-18; 8:45 am]

BILLING CODE 4120-03-P